NUCLEAR REGULATORY COMMISSION

Standard Review Plan, Availability of Draft Standard Review Plan

AGENCY: Nuclear Regulatory Commission (NRC).

ACTION: Notice of issuance of Draft Standard Review Plan.

SUMMARY: The NRC is announcing the availability of draft Standard Review Plan (SRP) Section 14.2.1, “Generic Guidelines for Extended Power Uprate Testing Programs,” dated December 2002, for interim use and public comment.

DATES: Submit comments by March 31, 2003. Comments received after this date will be considered if it is practical to do so, but the Commission is able to ensure consideration only for comments received on or before this date.

ADDRESSES: Submit comments to Kevin A. Coyne, Operations Engineer, U.S. Nuclear Regulatory Commission, Mailstop O-6F2, Washington, DC 20555-0001. Comments may be delivered to 11555 Rockville Pike, Rockville, Maryland, between 7:30 a.m. and 4:15 p.m. on Federal workdays.

This document is available for public inspection (1) at the NRC's Public Document Room (PDR), located at One White Flint North, Public File Area 01 F21, 11555 Rockville Pike, Rockville, Maryland, (2) from the Agencywide Documents Access and Management System's (ADAMS) Public Electronic Reading Room on the Internet at the NRC Web site, http://www.nrc.gov/reading-rm/adams.html, using the Accession No. ML023530407, and (3) at the NRC's Web site, http://www.nrc.gov/reading-rm/doc-collections/nuregs/#comments. Persons who do not have access to ADAMS or who encounter problems accessing the document in ADAMS should contact the NRC PDR Reference staff by telephone at 1-800-397-4209, 301-415-4737, or by e-mail to pdr@nrc.gov.

FOR FURTHER INFORMATION CONTACT: Kevin A. Coyne, Operations Engineer, Office of Nuclear Reactor Regulation, by telephone at 301-415-1399 or e-mail at kxc@nrc.gov.

SUPPLEMENTARY INFORMATION: Draft SRP Section 14.2.1 provides guidance for the NRC staff to use when evaluating testing programs proposed by licensee's in relation to extended power uprate amendment requests. The purpose of NRC staff's review related to Draft SRP Section 14.2.1 is to ensure that proposed extended power uprate testing programs (1) adequately control initial power ascension to the requested power level, (2) include sufficient testing to demonstrate that extended power uprate related plant modifications have been adequately implemented, and (3) include sufficient testing to demonstrate that structures, systems, and components will perform satisfactorily at the requested power level.

Dated at Rockville, Maryland, this 19th day of December 2002.
For the Nuclear Regulatory Commission.
Kathy Halvey Gibson,
Acting Chief, Equipment and Human Performance Branch, Division of Inspection Program Management, Office of Nuclear Reactor Regulation.

[FR Doc. 02-33000 Filed 12-30-02; 8:45 am]

BILLING CODE 7590-01-P